DEPARTMENT OF ENERGY

Federal Energy Regulatory Commission

[Docket No.PL03-6-000]

Natural Gas Markets Conference; Notice of Public Conference

September 23, 2003.

1. The Federal Energy Regulatory Commission (FERC) will hold a conference on October 14, 2003, to engage industry members and the public in a dialogue about policy issues facing the natural gas industry today and the Commission's regulation of the industry for the future. Last year the Commission held a wide ranging discussion concerning its regulatory goals for the natural gas industry (Docket No. PL02-9-000). This year's conference on the “state of the gas market” will focus on the findings and recommendations contained in the National Petroleum Council's soon to be released report: Balancing Natural Gas Policy—Fueling the Demands of a Growing Economy.¹

¹ The National Petroleum Council is an oil and natural gas advisory committee to the Secretary of Energy.

2. Last March, the Secretary of Energy asked the National Petroleum Council to conduct a study of natural gas in the United States in the 21st Century. Specifically, he stated:

Such a study should examine the potential implications of new supplies, new technologies, new perceptions of risk, and other evolving market conditions that may affect the potential for natural gas demand, supplies, and delivery through 2025. It should also provide insights on energy market dynamics, including price volatility and future fuel choice, and an outlook on the longer term sustainability of natural gas supplies. Of particular interest is the Council's advice on actions that can be taken by industry and government to increase the productivity and efficiency of North American natural gas markets and to ensure adequate and reliable supplies of energy for consumers.

3. At the conference, representatives of the National Petroleum Council will present their report and interested individuals will have an opportunity to respond and ask questions. The summary of findings and recommendations will be available from the National Petroleum Council on September 25, 2003 on the National Petroleum Council Web site at http://www.npc.org. The entire integrated report will be available at the conference.

4. In addition, the Commission also seeks to encourage industry representatives and interested individuals to raise other issues for the Commission to consider in shaping its future regulatory policies concerning the natural gas industry. Following the National Petroleum Council presentation and discussion, the Commission will have an open forum that will give all interested individuals an opportunity to raise issues.

5. The conference will be held on October 14, 2003 at FERC, 888 First Street, NE. in Washington, DC, beginning at 10 a.m. in the Commission Meeting Room. The public is invited to attend.

6. The conference will be transcribed. Those interested in acquiring the transcript should contact Ace Reporters at 202-347-3700 or 800-336-6646. Transcripts will be placed in the public record ten days after the Commission receives the transcripts. Additionally, Capitol Connection offers the opportunity for remote listening and viewing of the conference. It is available for a fee, live or over the Internet, via C-Band Satellite. Persons interested in receiving the broadcast, or who need information on making arrangements should contact David Reininger or Julia Morelli at Capitol Connection (703-993-3100) as soon as possible or visit the Capitol Connection Web site at http://www.capitolconnection.gmu.edu and click on “FERC.”

Magalie R. Salas,
Secretary.

[FR Doc. 03-24642 Filed 9-26-03; 8:45 am]

BILLING CODE 6717-01-P